DEPARTMENT OF LABOR

Bureau of Labor Statistics

Data Users Advisory Committee; Notice of Meeting and Agenda

The Bureau of Labor Statistics Data Users Advisory Committee will meet on Tuesday, October 25, 2011. The meeting will be held in the Postal Square Building, 2 Massachusetts Avenue, NE., Washington, DC.

The Committee provides advice to the Bureau of Labor Statistics from the points of view of data users from various sectors of the U.S. economy, including the labor, business, research, academic, and government communities, on technical matters related to the collection, analysis, dissemination, and use of the Bureau's statistics, on its published reports, and on the broader aspects of its overall mission and function.

The meeting will be held in Meeting Rooms 1, 2, and 3 of the Postal Square Building Conference Center. The schedule and agenda for the meeting are as follows:

8:30 a.m. Registration.

8:45 a.m. Introductions and Welcome.

9 a.m. Commissioner's Introduction.

9:45 a.m. Follow-up from Past Recommendations.

10:45 a.m. Discuss initiative, Current Employment Statistics data by size class.

1 p.m. Discuss initiative, Competitiveness measures in the International Price Program.

2 p.m. Request for DUAC suggestions for improving Data Access/Query Tools and Output Formats on the BLS Web site.

3 p.m. Discuss initiative, Consolidating BLS Publications.

4 p.m. Request for DUAC suggestions for reaching targeted industries with low data collection response rates.

5 p.m. Wrap-up.

The meeting is open to the public. Any questions concerning the meeting should be directed to Kathy Mele, Data Users Advisory Committee, on 202-691-6102. Individuals who require special accommodations should contact Ms. Mele at least two days prior to the meeting date.

Kimberley D. Hill,
Chief, Division of Management Systems, Bureau of Labor Statistics.

[FR Doc. 2011-25402 Filed 10-3-11; 8:45 am]

BILLING CODE 4510-24-P